Title 3—

The President

Proclamation 8318 of November 7, 2008

World Freedom Day, 2008

By the President of the United States of America

A Proclamation

On World Freedom Day, we celebrate the anniversary of the historic fall of the Berlin Wall and honor the brave citizens of East and West Germany who helped secure freedom and liberty for future generations.

The Berlin Wall stood as a barrier that isolated the victims of imperial Communism and totalitarian power from the promise of the free world. Standing in the presence of the wall, with an unshakable belief in the power of liberty, President Ronald Reagan issued a resounding challenge on behalf of the free and the unfree alike: “Mr. Gorbachev, tear down this wall.” On November 9, 1989, the citizens of East Germany finally triumphed over their Communist oppressors, and the Berlin Wall came tumbling down. As the hope of freedom spread, the Soviet empire collapsed, the Iron Curtain was lifted, and Eastern and Central Europe were liberated from decades of cruel tyranny.

The Cold War demonstrated once again that freedom is precious and cannot be taken for granted, that evil is real and must be confronted, and that if they are allowed to do so, harsh rulers will subjugate others in the name of hateful ideologies. History has also proven that the transformative power of liberty overcomes this oppression. Today, many former Communist countries are using their sovereignty to aid the rise of other young democracies and to shine the light of conscience on human rights abuses. Our belief in the universality of freedom is challenged time and again, but we continue to go forward with confidence that free nations will always prevail over the enemies of liberty, peace, and justice.

On World Freedom Day, we are reminded that injustice overseas can threaten our way of life at home, and we renew our commitment to helping those who suffer under the weight of oppression.

NOW, THEREFORE, I, GEORGE W. BUSH, President of the United States of America, by virtue of the authority vested in me by the Constitution and laws of the United States, do hereby proclaim November 9, 2008, as World Freedom Day. I call upon the people of the United States to observe this day with appropriate ceremonies and activities, reaffirming our dedication to freedom and democracy.

IN WITNESS WHEREOF, I have hereunto set my hand this seventh day of November, in the year of our Lord two thousand eight, and of the Independence of the United States of America the two hundred and thirty-third.

[FR Doc. E8-26989

Filed 11-10-08; 8:45 am]

Billing code 3195-W9-P